DEPARTMENT OF COMMERCE

National Oceanic and Atmospheric Administration

[I.D. 030107E]

Gulf of Mexico Fishery Management Council (Council); Public Meetings; Republication

AGENCY: National Marine Fisheries Service (NMFS), National Oceanic and Atmospheric Administration (NOAA), Commerce.

ACTION: Notice.

SUMMARY: The Gulf of Mexico Fishery Management Council (Council) will convene public meetings.

DATES: The meetings will be held March 26 - 30, 2007.

ADDRESSES: The meetings will be held at the Embassy Suites, 570 Scenic Gulf Drive, Destin, FL 32550.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION: This notice published in the Federal Register on March 7, 2007 (72 FR 10171). It is being republished in its entirety due to additional agenda items.

Council

Thursday, March 29, 2007

8:30 a.m. - The Council meeting will begin with a review of the agenda and minutes.

8:45 a.m. to 9 a.m. - Public testimony on exempted fishing permits (EFPs), if any.

9 a.m. to 11:30 a.m. - The Council will hold an Open Public Comment Period regarding any fishery issue or concern. People wishing to speak before the Council should complete a public comment card prior to the comment period.

The Council will then review and discuss reports from the previous three day's committee meetings as follows:

1 p.m. - 3:30 p.m. - Joint Reef Fish/Shrimp Management;

3:30 p.m. - 4:30 p.m. - Reef Fish Management;

4:30 p.m. - 5:30 p.m. - CLOSED SESSION for Advisory Panel (AP) and Scientific and Statistical Committee (SSC) Section Committees and Reef Fish Committee.

Friday, March 30, 2007

8:30 a.m. - The Council meeting will reconvene to continue reviewing and discussing reports from the previous three day's committee meetings as follows:

8:30 a.m. - 9 a.m. - Mackerel Management;

9 a.m. - 9:30 a.m. - Joint Reef Fish/Mackerel/Red Drum;

9:30 a.m. - 9:45 a.m. - Budget/Personnel;

9:45 a.m. - 10 a.m. - Data Collection;

10 a.m. - 11 a.m. - Administrative Policy; and.

11 a.m. - 12 p.m. - Other Business items.

Committees

Monday, March 26, 2007

1 p.m. - 3:30 p.m. - CLOSED SESSION - The AP Selection Committee will meet to appoint AP members.

3:30 p.m. - 5 p.m. - CLOSED SESSION - The SSC Selection Committee will meet to appoint SSC, Stock Assessment Panel (SAP) and Socioeconomic Panel (SEP) members.

5 p.m. - 5:30 p.m. - The Budget/Personnel Committee will meet to discuss the State Liaison Budget Increases.

6:30 p.m. - 7:30 p.m. - NMFS Public Scoping Session on Magnuson-Stevens Fishery Conservation and Management Act (Magnuson-Stevens Act) provision regarding National Environmental Protection Agency (NEPA) review for fisheries management actions.

Tuesday March 27, 2007

8:30 a.m. - 12 p.m. - The Joint Reef Fish/Shrimp Management Committee will meet to review Southeast Fishery Science Center (SEFSC) Analyses Runs. The Committee will also review the current Public Hearing Draft of Reef Fish Amendment 27/Shrimp Amendment 14 and the SSC's recommendations; the NMFS' FEIS and Interim Rule for Red Snapper; the SEFSC Report on Release Mortality in Relation to Depth and Dolphin Predation, the Framework Action to Revise the List of Allowable bycatch reduction devices (BRDs); NMFS Interim Rule for Red Snapper; and an Options Paper for Reef Fish Amendment 31/Shrimp Amendment 15.

1:30 p.m. - 5:30 p.m. - The Joint Reef Fish/Shrimp Management Committee continues.

6:30 p.m. - 7:30 p.m. - NMFS Public Scoping Session on guidance for use of the annual catch limits.

Wednesday, March 28, 2007

8:30 a.m. - 12 p.m. - The Reef Fish Management Committee will meet to discuss the updates on Reef Fish Amendment 29; the Ad Hoc Grouper Individual Fishing Quota (IFQ) AP recommendations for an IFQ program; the Guidelines for a Referendum for Grouper/Tilefish IFQ; the Scoping Document for Amendment 30; and possibly consider NMFS communications protocol allowing VMS units to be “powered down” when in port; PARTIALLY CLOSED SESSION - the formation of an Ad Hoc Recreational Red Snapper AP for developing new ideas to manage recreational and for-hire red snapper fisheries.

1:30 p.m. - 2:30 p.m. - The Joint Reef Fish/Mackerel/Red Drum Committees will meet to discuss the Status Report on a Public Hearing Draft for the Generic Aquaculture Amendment and SSC Recommendations on completing a Red Drum SEDAR Stock Assessment.

2:30 p.m. - 4 p.m. - The Administrative Policy Committee will meet to discuss the Magnuson-Stevens Act Requirements for Annual Catch Limits.

4 p.m. - 5 p.m. - The Data Collection Committee will meet to discuss a paper for an Amendment to Require Trip Tickets for Recreational-For-Hire Sector.

5 p.m. - 5:30 p.m. - The Mackerel Management Committee will meet to reconsider the Joint Mackerel Management Committee report and an associated scoping document for Amendment 16 to the Coastal Migratory Pelagics Fishery Management Plan (FMP) from its September 18 & 19, 2006 meeting.

6 p.m. - 8 p.m. - NMFS will provide an update on the Red Snapper IFQ program and there will be a Question and Answer Session.

The committee reports will be presented to the Council for consideration on Thursday March 29, and on Friday, March 30, 2007.

Although other non-emergency issues not on the agendas may come before the Council and Committees for discussion, in accordance with the Magnuson-Stevens Act, those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: March 9, 2007.
Tracey L. Thompson,
Acting Director, Office of Sustainable Fisheries, National Marine Fisheries Service.

[FR Doc. E7-4608 Filed 3-13-07; 8:45 am]

BILLING CODE 3510-22-S